NUCLEAR REGULATORY COMMISSION

[NRC-2016-0174]

Information Collection: DOE/NRC Form 740M, Concise Note; DOE/NRC Form 741, Nuclear Material Transaction Report; DOE/NRC Form 742, Material Balance Report; DOE/NRC Form 742C, Physical Inventory Listing

AGENCY: Nuclear Regulatory Commission.

ACTION: Notice of submission to the Office of Management and Budget (OMB); request for comment.

SUMMARY: The U.S. Nuclear Regulatory Commission (NRC) has recently submitted a request for renewal of an existing collection to OMB for review. The information collections are entitled, “DOE/NRC Form 740M, Concise Note; DOE/NRC Form 741, Nuclear Material Transaction Report; DOE/NRC Form 742, Material Balance Report; and DOE/NRC Form 742C, Physical Inventory Listing.”

DATES: Submit comments May 30, 2017.

ADDRESSES: Submit comments directly to the OMB reviewer at: Aaron Szabo, Desk Officer, Office of Information and Regulatory Affairs (3150-0057, 3150-0003, 3150-0004, 3150-0058), NEOB-10202, Office of Management and Budget, Washington, DC 20503; telephone: 202-395-3621, email: oira_submission@omb.eop.gov.

FOR FURTHER INFORMATION CONTACT: David Cullison, NRC Clearance Officer, U.S. Nuclear Regulatory Commission, Washington, DC 20555-0001; telephone: 301-415-2084; email: INFOCOLLECTS.Resource@nrc.gov.

SUPPLEMENTARY INFORMATION:

I. Obtaining Information and Submitting Comments

A. Obtaining Information

Please refer to Docket ID NRC-2016-0174 when contacting the NRC about the availability of information for this action. You may obtain publicly-available information related to this action by any of the following methods:

• Federal rulemaking Web site: Go to http://www.regulations.gov and search for Docket ID NRC-2016-0174. A copy of the collection of information and related instructions may be obtained without charge by accessing Docket ID NRC-2016-0174.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. A copy of the collection of information and related instructions may be obtained without charge by accessing the following ADAMS Accession No. ML17009A231. Guidance documents are available for the Forms in ADAMS as follows: NUREG/BR-0006, Revision 7, Accession No. ML111740924, and NUREG/BR-0007 Accession No. ML090120288. The supporting statements for each DOE/NRC Form and the forms themselves are available in ADAMS as follows: DOE/NRC Form 740M, “Concise Note” Accession Nos. ML17009A233 and ML16252A189; DOE/NRC Form 741, “Nuclear Material Transaction Report” Accession Nos. ML17009A234 and ML16252A191; DOE/NRC Form 742, “Material Balance Report” Accession numbers ML17009A235 and ML16252A192; and DOE/NRC Form 742C, “Physical Inventory Listing” Accession Nos. ML17009A236 and ML16252A193.

• NRC's PDR: You may examine and purchase copies of public documents at the NRC's PDR, Room O1-F21, One White Flint North, 11555 Rockville Pike, Rockville, Maryland 20852.

• NRC's Clearance Officer: A copy of the collection of information and related instructions may be obtained without charge by contacting the NRC's Clearance Officer, David Cullison, Office of the Chief Information Officer, U.S. Nuclear Regulatory Commission, Washington, DC 20555-0001; telephone: 301-415-2084; email: INFOCOLLECTS.Resource@NRC.GOV.

B. Submitting Comments

The NRC cautions you not to include identifying or contact information in comment submissions that you do not want to be publicly disclosed in your comment submission. All comment submissions are posted at http://www.regulations.gov and entered into ADAMS. Comment submissions are not routinely edited to remove identifying or contact information.

If you are requesting or aggregating comments from other persons for submission to the OMB, then you should inform those persons not to include identifying or contact information that they do not want to be publicly disclosed in their comment submission. Your request should state that comment submissions are not routinely edited to remove such information before making the comment submissions available to the public or entering the comment into ADAMS.

II. Background

Under the provisions of the Paperwork Reduction Act of 1995 (44 U.S.C. Chapter 35), the NRC recently submitted a revision of a collection of information to OMB for review entitled, “DOE/NRC Form 740M, Concise Note; DOE/NRC Form 741, Nuclear Material Transaction Report; DOE/NRC Form 742, Material Balance Report; DOE/NRC Form 742C, Physical Inventory Listing.” The NRC hereby informs potential respondents that an agency may not conduct or sponsor, and that a person is not required to respond to, a collection of information unless it displays a currently valid OMB control number.

The NRC published a Federal Register notice with a 60-day comment period on this information collection on October 28, 2016 (81 FR 75167).

1. The title of the information collection: DOE/NRC Form 740M, Concise Note; DOE/NRC Form 741, Nuclear Material Transaction Report; DOE/NRC Form 742, Material Balance Report; DOE/NRC Form 742C, Physical Inventory Listing.

2. OMB approval numbers:

DOE/NRC Form 740M: 3150-0057.

DOE/NRC Form 741: 3150-0003.

DOE/NRC Form 742: 3150-0004.

DOE/NRC Form 742C: 3150-0058.

3. Type of submission: Revision.

4. The form number if applicable: DOE/NRC Forms 740M, 741, 742, and 742C.

5. How often the collection is required or requested: DOE/NRC Form 741, Nuclear Material Transaction Reports will be collected whenever nuclear material is shipped or received into the Material Balance Area; DOE/NRC Form 742, Material Balance Report will be collected on an annual basis; DOE/NRC Form 742C, Physical Inventory Listing will be collected on an annual basis; DOE/NRC Form 740M, Concise Note Forms are used when needed.

6. Who will be required or asked to respond: Persons licensed to possess specified quantities of nuclear material and entities subject to the U.S. IAEA Caribbean Territories Safeguards Agreement (INFCIRC/366) are required to respond as follows:

Any licensee who ships, receives, or otherwise undergoes an inventory change of nuclear material is required to submit a DOE/NRC Form 741 to document the change. Additional information regarding these transactions shall be submitted through Form 740M, with Safeguards Information identified and handled in accordance with 10 CFR 73.21, “Requirements for the Protection of Safeguards Information.”

Any licensee who had possessed in the previous reporting period, at any one time and location, nuclear material in a quantity totaling one gram or more shall complete DOE/NRC Form 742. In addition, each licensee, Federal or State, who is authorized to possess, at any one time or location, one kilogram of foreign obligated source material, is required to file with the NRC an annual statement of source material inventory which is foreign obligated.

Any licensee, who had possessed in the previous reporting period, at any one time and location, special nuclear material in a quantity totaling one gram or more shall complete DOE/NRC Form 742C.

7. The estimated number of annual responses:

DOE/NRC Form 740M: 175.

DOE/NRC Form 741: 10,000.

DOE/NRC Form 742: 385.

DOE/NRC Form 742C: 385.

8. The estimated number of annual respondents:

DOE/NRC Form 740M: 40.

DOE/NRC Form 741: 350.

DOE/NRC Form 742: 385.

DOE/NRC Form 742C: 385.

9. An estimate of the total number of hours needed annually to comply with the information collection requirement or request:

DOE/NRC Form 740M: 131.

DOE/NRC Form 741: 12,500.

DOE/NRC Form 742: 1,310.

DOE/NRC Form 742C: 1,490.

10. Abstract: Persons licensed to possess specified quantities of nuclear material currently report inventory and transaction of material to the Nuclear Materials Management and Safeguards System via the DOE/NRC Forms: DOE/NRC Form 740M, Concise Note; DOE/NRC Form 741, Nuclear Material Transaction Report; DOE/NRC Form 742, Material Balance Report; DOE/NRC Form 742C, Physical Inventory Listing. This collection is being renewed to include approximately 25 entities subject to the U.S. IAEA Caribbean Territories Safeguards Agreement (INFCIRC/366). 10 CFR part 75 requires licensees to provide reports of nuclear material inventory and flow for entities under the U.S. IAEA Caribbean Territories Safeguards Agreement (INFCIRC/366), permit inspections by IAEA inspectors, give immediate notice to the NRC in specified situations involving the possibility of loss of nuclear material, and give notice for imports and exports of specified amounts of nuclear material. These licensees will also follow written material accounting and control procedures, although actual reporting of transfer and material balance records to the IAEA will be done through the U.S. State system (Nuclear Materials Management and Safeguards System, collected under OMB clearance numbers 3150-0003, 3150-0004, 3150-0057, and 3150-0058.) The NRC needs this information to implement its international obligations under the U.S.-IAEA Caribbean Territories Safeguards Agreement (INFCIRC/366).

Dated at Rockville, Maryland, this 24th day of April 2017.
For the Nuclear Regulatory Commission.
David Cullison,
NRC Clearance Officer, Office of the Chief Information Officer.

[FR Doc. 2017-08533 Filed 4-26-17; 8:45 am]

BILLING CODE 7590-01-P